DEPARTMENT OF ENERGY

Federal Energy Regulatory Commission

Combined Notice of Filings #1

Take notice that the Commission received the following electric corporate filings:

Docket Numbers: EC16-45-000

Applicants: NRG Wholesale Generation LP, Seward Generation, LLC

Description: Joint Application of NRG Wholesale Generation LP and Seward Generation, LLC for Approval Under Section 203 of the Federal Power Act and Request for Expedited Action.

Filed Date: 12/1/15.

Accession Number: 20151201-5357.

Comments Due: 5 p.m. ET 12/22/15.

Take notice that the Commission received the following electric rate filings:

Docket Numbers: ER11-2105-001.

Applicants: Oklahoma Gas and Electric Company.

Description: Supplement to June 30, 2015 Updated Market Power Analysis for Southwest Power Pool, Inc. Balancing Area Authority of Oklahoma Gas and Electric Company.

Filed Date: 12/1/15.

Accession Number: 20151201-5356.

Comments Due: 5 p.m. ET 12/22/15.

Docket Numbers: ER14-2666-003.

Applicants: Avalon Solar Partners, LLC.

Description: Notice of Non-Material Change in Status of Avalon Solar Partners, LLC.

Filed Date: 12/2/15.

Accession Number: 20151202-5132.

Comments Due: 5 p.m. ET 12/23/15.

Docket Numbers: ER15-762-004.

Applicants: Sierra Solar Greenworks LLC.

Description: Notice of Non-Material Change in Status of Sierra Solar Greenworks LLC.

Filed Date: 12/1/15.

Accession Number: 20151201-5351.

Comments Due: 5 p.m. ET 12/22/15.

Docket Numbers: ER15-1026-002.

Applicants: Utah Red Hills Renewable Park, LLC.

Description: Notice of Non-Material Change in Status of Utah Red Hills Renewable Park, LLC.

Filed Date: 12/1/15.

Accession Number: 20151201-5349.

Comments Due: 5 p.m. ET 12/22/15.

Docket Numbers: ER15-2594-003.

Applicants: South Central MCN, LLC.

Description: Compliance Filing [including Pro Forma sheets] of South Central MCN, LLC.

Filed Date: 11/30/15.

Accession Number: 20151130-5489.

Comments Due: 5 p.m. ET 12/21/15.

Docket Numbers: ER15-2728-000; ER15-2728-001.

Applicants: Maricopa West Solar PV, LLC.

Description: Supplement to September 25, 2015 and October 13, 2015 Maricopa West Solar PV, LLC tariff filings to be effective 11/12/2015.

Filed Date: 11/12/15.

Accession Number: 20151112-5408.

Comments Due: 5 p.m. ET 12/3/15.

Docket Numbers: ER16-445-000.

Applicants: San Diego Gas & Electric Company.

Description: Third Annual Informational Filing [Cycle 3] of Fourth Transmission Owner Rate Formula rate mechanism of San Diego Gas & Electric Company.

Filed Date: 12/1/15.

Accession Number: 20151201-5347.

Comments Due: 5 p.m. ET 12/22/15.

Docket Numbers: ER16-446-000.

Applicants: ISO New England Inc., New England Power Pool.

Description: ISO New England Inc., et. al. submits Installed Capacity Requirement, Hydro Quebec Interconnection Capability Credits and Related Values for the 2016/2017, 2017/2018 & 2018/2019 Capacity Commitment Period.

Filed Date: 12/1/15..

Accession Number: 20151201-5353.

Comments Due: 5 p.m. ET 12/22/15.

Docket Numbers: ER16-447-000.

Applicants: Owensboro Municipal Utilities.

Description: Request for Limited Waiver of Owensboro Municipal Utilities.

Filed Date: 12/1/15.

Accession Number: 20151201-5355.

Comments Due: 5 p.m. ET 12/22/15.

Docket Numbers: ER16-448-000.

Applicants: Public Service Company of Colorado.

Description: § 205(d) Rate Filing: 2015-12-2_PSC-TSGT-NC-BASA 409-0.0.0-Filing to be effective 12/1/2015.

Filed Date: 12/2/15.

Accession Number: 20151202-5065.

Comments Due: 5 p.m. ET 12/23/15.

Docket Numbers: ER16-449-000.

Applicants: RE Camelot LLC.

Description: Compliance filing: Compliance Filing—Removal of Affiliate Waiver to be effective 11/1/2015.

Filed Date: 12/2/15.

Accession Number: 20151202-5116.

Comments Due: 5 p.m. ET 12/23/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 2, 2015.
Nathaniel J. Davis, Sr.,
Deputy Secretary.

[FR Doc. 2015-30845 Filed 12-7-15; 8:45 am]

BILLING CODE 6717-01-P